FEDERAL MARITIME COMMISSION

Ocean Transportation Intermediary License; Applicant

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, D.C. 20573.

Non-Vessel-Operating Common Carrier Ocean Transportation Intermediary Applicants:

BDP Transport, LLC, 510 Walnut Street, Philadelphia, PA 19106, Officers: Richard J. Bolte, Jr., President, (Qualifying Individual) John McMillan, Director.

Non-Vessel Operating Common Carrier and Ocean Freight Forwarder Transportation Intermediary Applicants:

Logistics +, Inc., One Centennial Drive, Jamestown, NY 14701, Officers: Debra A. Wagner, Manager, (Qualifying Individual) James R. Berlin, President.

Atlantic Pacific Container Line LLC d/b/a APC Line, Aero Marine Industrial Park Oak Street, Bldg. #K, Keyport, NJ 07735, Officer: Nadia A. Otagah, CEO, (Qualifying Individual).

Ocean Freight Forwarders—Ocean Transportation Intermediary Applicants:

J&M International, Inc., 7020 S. Yale, Suite 207, Tulsa, OK 74136-5744, Officers: Joseph D. Fain, President, (Qualifying Individual) Tom K. Murray, Vice President.

Dated: April 28, 2000.
Bryant L. VanBrakle,
Secretary.

[FR Doc. 00-11068 Filed 5-3-00; 8:45 am]

BILLING CODE 6730-01-P